DEPARTMENT OF ENERGY

Federal Energy Regulatory Commission

[Docket No. GT01-9-000]

Kern River Gas Transmission Company; Notice of Proposed Changes in FERC Gas Tariff and Filing of Non-Conforming Amendment to Service Agreement

February 1, 2001.

Take notice that on January 26, 2001, Kern River Gas Transmission Company (Kern River) tendered for filing and acceptance a non-conforming amendment to a service agreement. Kern River also tendered for filing as part of its FERC Gas Tariff, Second Revised Volume No. 1, the following tariff sheets, to be effective February 26, 2001:

Sheet Nos. 427-489 (reserved)

First Revised Sheet No. 490

Kern River states that the purpose of this filing is to submit a transportation service agreement amendment between Union Pacific Resources Company and Kern River that contains non-conforming provisions and that the tariff sheet is submitted to add such amendment to the list of non-conforming service agreements contained in Kern River's tariff.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-3148 Filed 2-6-01; 8:45 am]

BILLING CODE 6717-01-M